DEPARTMENT OF TRANSPORTATION

Federal Aviation Administration

Notice of Passenger Facility Charge (PFC) Approvals and Disapprovals

AGENCY: Federal Aviation Administration (FAA), DOT.

ACTION: Monthly Notice of PFC Approvals and Disapprovals. In January 2012, there were four applications approved. This notice also includes information on two other applications, one approved in June 2011 and one approved in December 2011, inadvertently left off the June 2011 and December 2011 notices, respectively. Additionally, two approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

Public Agency: County of Marquette, Gwinn, Michigan.

Application Number: 11-10-C-00-SAW.

Application Type: Impose and use a PFC.

PFC Level: $4.50.

Total PFC Revenue Approved in This Decision: $451,329.

Earliest Charge Effective Date: March 1, 2012.

Estimated Charge Expiration Date: July 1, 2013.

Class of Air Carriers Not Required To Collect PFCs:

Non-scheduled/on-demand operators filing FAA Form 1800-31.

Determination: Approved. Based on information submitted in the public agency's application, the FAA has determined that the approved class accounts for less than 1 percent of the total annual enplanements at Sawyer International Airport.

Brief Description of Projects Approved for Collection and Use

Fuel farm improvements.

Asbestos abatement and demolition of hangar 668.

Insulation of hangars 423, 424, and 425.

Insulation of hangars 661, 662, 663, 665, and 666.

Hangar tail dock; 665 electrical/insulation; water study.

Electrical/insulation of hangars 661, 663, 664, 666, and 667.

Hangar improvements: hangars 664, 665, 667, and 661-667.

Decision Date: June 17, 2011.

FOR FURTHER INFORMATION CONTACT: Diane Morse, Detroit Airports District Office, (734) 229-2929.

Public Agency: City of Minot, North Dakota.

Application Number: 11-07-C-00-MOT.

Application Type: Impose and use a PFC.

PFC Level: $4.50.

Total PFC Revenue Approved in This Decision: $1,683,019.

Earliest Charge Effective Date: August 1, 2012.

Estimated Charge Expiration Date: January 1, 2015.

Class of Air Carriers Not Required To Collect PFCs:

Non-scheduled/on-demand air carriers filing FAA Form 1800-31.

Determination: Approved. Based on information submitted in the public agency's application, the FAA has determined that the approved class accounts for less than 1 percent of the total annual enplanements at Minot International Airport.

Brief Description of Projects Approved For Collection and Use:

Construct taxiway to new hangar area.

Construct apron to new hangar area.

Procure snow removal equipment—runway sander and plow loader.

Reconstruct a portion of the west terminal apron.

Replace west terminal apron lights.

Reconstruct a portion of the east terminal apron (approximately 18,256 square yards).

Modify supplemental wind cones.

Runway 8/26 pavement rejuvenation.

Purchase snow removal equipment—high-speed snow plow.

Master plan/land use.

Design passenger terminal remodel.

Install runway guard lights and enhanced taxiway markings.

Acquire snow removal equipment with attachments.

Acquire security vehicle.

Runway 8/26 runway protection zone environmental assessment—phase 1.

Rehabilitate taxiway C lighting (phase 1—specifications).

Upgrade security system (phase 1—specifications).

Taxiway C lighting and cable rehabilitation.

Construct improvements of terminal building.

Design reconstruction of taxiway C from taxiway B to runway 8/26.

Design passenger terminal doors.

Expand aircraft rescue and firefighting building (phase 1—design).

Construct rehabilitation of taxiway C from taxiway B to runway 8/26.

Construct expansion of aircraft rescue and firefighting building (phase 2—construction).

Acquire aircraft rescue and firefighting vehicle (phase 2—construction).

Acquire runway/taxiway high-speed snow plow.

Acquire snow sweeper.

Construction of security access control system.

PFC application and administration.

Decision Date: December 29, 2011.

FOR FURTHER INFORMATION CONTACT: David Anderson, Bismarck Airports District Office, (701) 323-7385.

Public Agency: Port of Oakland, Oakland, California.

Application Number: 11-06-U-00-OAK.

Application Type: Use PFC revenue.

PFC Level: $3.00.

Total PFC Revenue Approved for Use in This Decision: $70,259,000.

Earliest Charge Effective Date: April 1, 2021.

Estimated Charge Expiration Date: May 1, 2023.

Class of Air Carriers Not Required To Collect PFCs:

No change from previous decision.

Brief Description of Project Approved For Use:

Bay Area rapid transit airport connector.

Decision Date: January 11, 2012.

FOR FURTHER INFORMATION CONTACT: Samuel Iskander, Western Pacific Region Airports Division, (310) 725-3623.

Public Agency: County of Outagamie, Appleton, Wisconsin.

Application Number: 12-07-C-00-ATW.

Application Type: Impose and use a PFC.

PFC Level: $4.50.

Total PFC Revenue Approved in This Decision: $4,914,710.

Earliest Charge Effective Date: January 1, 2013.

Estimated Charge Expiration Date: May 1, 2017.

Class of Air Carriers Not Required To Collect PFCs: Non-scheduled/on-demand air carriers filing FAA Form 1800-31.

Determination: Approved. Based on information submitted in the public agency's application, the FAA has determined that the approved class accounts for less than 1 percent of the total annual enplanements at Outagamie County Regional Airport.

Brief Description of Projects Approved for Collection and Use

Aircraft rescue and firefighting access road.

Terminal apron expansion.

Hertz property acquisition.

Airfield snow removal tractor.

Friction measuring equipment and tow vehicle.

Plow truck with broom and deicing equipment.

Sand truck replacement.

Airfield loader.

Fire truck replacement.

Aircraft deicing truck (1 of 2).

Aircraft deicing truck (2 of 2).

Runway deicing truck.

Glycol mixing building.

Flight and gate information display system.

PFC administration costs—September 2008 to August 2009.

PFC administration costs—July 2010 to July/August 2011.

Decision Date: January 11, 2012.

FOR FURTHER INFORMATION CONTACT: Daniel Millenacker, Minneapolis Airports District Office, (612) 253-4635.

Public Agency: County of Houghton, Calumet, Michigan.

Application Number: 11-12-C-00-CMX.

Application Type: Impose and use a PFC.

PFC Level: $4.50.

Total PFC Revenue Approved in This Decision: $355,300.

Earliest Charge Effective Date: February 1, 2013.

Estimated Charge Expiration Date: January 1, 2017.

Class of Air Carriers Not Required To Collect PFCs: None.

Brief Description of Projects Approved for Collection and Use

Reimbursement of PFC application fees.

PFC account audit cost reimbursement.

Topping trees in runway 25 approach.

Electrical rehabilitation of building 10.

Reimbursement of prior land purchase.

Aircraft rescue and firefighting vehicle procurement.

Snow removal equipment—front end loader procurement.

Improve wildlife fence and gates.

Reconstruct runway 7/25.

Snow removal equipment—snow sweeper procurement.

Terminal study—phase II.

Runway 25 approach land acquisition—parcel 34.

Crack sealing runway 13/31.

Airport pickup truck/snow plow procurement.

Wildlife hazard assessment.

Reconstruct taxiway Alpha.

Shotgun procurement.

Crack sealing taxiway Charlie.

Decision Date: January 20, 2012.

FOR FURTHER INFORMATION CONTACT: Diane Morse, Detroit Airports District Office, (734) 229-2929.

Public Agency: City and County of Twin Falls, Idaho.

Applications Number: 12-04-C-00-TVVF.

Application Type: Impose and use a PFC.

PFC Level: $4.50.

Total PFC Revenue Approved in This Decision: $543,523.

Earliest Charge Effective Date: October 1, 2012.

Estimated Charge Expiration Date: March 1, 2017.

Class of Air Carriers Not Required To Collect PFCs: Non-scheduled air taxi/commercial operators, utilizing aircraft having a seating capacity of less than 20 passengers.

Determination: Approved. Based on information submitted in the public agency's application, the FAA has determined that the approved class accounts for less than 1 percent of the total annual enplanements at Magic Valley Regional Airport.

Brief Description of Projects Approved for Collection and Use

Taxiway Delta extension.

Runway 7/25 lighting and signage rehabilitation.

Apron rehabilitation—northeast.

Access road rehabilitation—gate 1.

Conduct miscellaneous study—alternate crosswind runway.

Taxiways rehabilitation—pavement rehabilitation.

Access road rehabilitation—gates 5, 15, and 16.

Parking lot rehabilitation.

Runway 12/30 reconstruction.

Taxiways A2 and K reconstruction.

Apron reconstruction—west, phase 1.

Runway 7/25 rehabilitation—seeding, phase 1.

Wildlife hazard assessment plan.

Runway 12/30 rehabilitation.

Taxiways rehabilitation—pavement maintenance.

Airport master plan update.

Snow removal equipment building construction—design.

Terminal study.

PFC administration.

Decision Date: January 26, 2012.

FOR FURTHER INFORMATION CONTACT: Trang Tran, Seattle Airports District Office, (425) 227-1662.

Amendments To PFC Aapprovals
Amendment No., city, state | Amendment approved date | Original approved net PFC revenue | Amended approved net PFC revenue | Orignial estimated charge expiration date | Amended estimated charge expiration date
09-07-C-01-PSC, Pasco, WA | 01/25/12 | $2,884,950 | $2,818,172 | 10/01/21 | 08/01/21
05-07-C-02-ME, Meridian, MS | 01/27/12 | 673,197 | 58,424 | 10/01/10 | 10/01/10

Issued in Washington, DC on March 5, 2012.
Joe Hebert,
Manager, Financial Analysis and Passenger Facility Charge Branch.

[FR Doc. 2012-5826 Filed 3-9-12; 8:45 am]

BILLING CODE 4910-13-M